DEPARTMENT OF HOMELAND SECURITY

Coast Guard

[USCG-2000-7833]

Draft Programmatic Environmental Impact Statement for Vessel and Facility Response Plans for Oil: 2003 Removal Equipment Requirements and Alternative Technology Revisions

AGENCY: Coast Guard, DHS.

ACTION: Notice of public hearings.

SUMMARY: The Coast Guard will hold four public hearings to solicit comments on the draft programmatic environmental impact statement (DPEIS) for the rulemaking on Vessel and Facility Response Plans for Oil: 2003 Removal Equipment Requirements and Alternative Technology Revisions. The DPEIS addresses the increase of the oil removal capacity requirements for tank vessels and marine transportation-related facilities and added requirements for new response technologies. We seek comments from any interested or affected stakeholders and encourage all stakeholders to attend these hearings.

DATES: The public hearings will be held on the following dates in the cities listed:

• Houston, TX, July 11, 2005, from 12 p.m. to 7 p.m.

• Sacramento, CA, July 13, 2005, from 12 p.m. to 6 p.m

• Anchorage, AK, July 15, 2005, from 12 p.m. to 7 p.m.

• Washington DC, July 19, 2005, from 12 p.m. to 7 p.m.

Material submitted in response to the request for comments must reach the Department of Transportation's Docket Management Facility on or before August 1, 2005.

ADDRESSES: The Coast Guard will hold the public hearings at the following locations:

• Houston, TX—Hilton-University of Houston, 4800 Calhoun Street, Houston, TX 77204.

• Sacramento, CA—Office of Spill Prevention and Response, 1700 K Street, First Floor Meeting Room, Sacramento, CA 95814.

• Anchorage, AK—Hilton-Anchorage, 500 West 3rd Avenue, Anchorage, AK 99501.

• Washington, DC—Nassif Building, 400 Seventh Street SW., Room 2230, Washington, DC 20590.

You may also submit your comments directly to the Docket Management Facility. To ensure that your comments and related material are not entered more than once in the docket (USCG-2000-7833), please submit them by only one of the following means:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays.

FOR FURTHER INFORMATION CONTACT: If you have questions on this notice, call Bradley McKitrick, Coast Guard, telephone 202-267-0995, or e-mail bmckitrick@comdt.uscg.mil. If you have questions on viewing or submitting material to the docket, call Andrea M. Jenkins, Program Manager, Docket Operations, telephone 202-366-0271.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2000-7833) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

We are requesting your comments on issues related to the DPEIS. We will publish comments received during the DPEIS review period in the final PEIS.

Viewing comments and documents: To view comments, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Hearings

The Coast Guard encourages interested and affected stakeholders to attend the hearings and present oral comment or written comments during the hearings. The hearings are open to members of the public. Please note that the hearings may close early if all business is finished. If you are unable to attend the hearings, we encourage you to submit comments to the Docket Management Facility as indicated under ADDRESSES by August 1, 2005.

Information on Services for Individuals With Disabilities

If you plan to attend these hearings and require special assistance, such as sign language interpretation or other reasonable accommodations, contact us as indicated in FOR FURTHER INFORMATION CONTACT.

Background and Purpose

On June 1, 2005, the Coast Guard published a notice of availability with a request for comments in the Federal Register (70 FR 31487) to announce the availability of the draft programmatic environmental impact statement (DPEIS) for the rulemaking on Vessel and Facility Response Plans for Oil: 2003 Removal Equipment Requirements and Alternative Technology Revisions. At the time of that notice, public hearings had not been scheduled. This notice provides the information on the public hearings. Public hearings are an integral part of the environmental review process and are authorized by 40 CFR Part 1506. Therefore, the Coast Guard will hold public hearings at the times and locations noted above in DATES and ADDRESSES. You can access the DPEIS through the Department of Transportation Docket Management System (DMS) at http://dms.dot.gov using docket number USCG-2000-7833 or the Coast Guard's Web site http://www.uscg.mil/hq/g-m/regs/PEIS/peisindex.html.

Dated: June 8, 2005.
Raymond J. Petow,
Captain, U.S. Coast Guard, Acting Director of Standards, Marine Safety, Security, and Environmental Protection, U.S. Coast Guard.

[FR Doc. 05-11821 Filed 6-14-05; 8:45 am]

BILLING CODE 4910-15-P